ENVIRONMENTAL PROTECTION AGENCY

40 CFR Part 52

[EPA-R03-OAR-2007-1001; FRL-8515-3]

Approval and Promulgation of Air Quality Implementation Plans; Maryland; NOX and SO2 Emissions Limitations for Fifteen Coal-Fired Electric Generating Units

AGENCY: Environmental Protection Agency (EPA).

ACTION: Proposed rule.

SUMMARY: EPA is proposing to approve a State Implementation Plan (SIP) revision submitted by the Maryland Department of the Environment (MDE). This revision pertains to regulations for emission limitations at 15 Maryland power plants. The State requested that regulations establishing statewide tonnage caps for emissions of NOX and SO2 from 15 coal-fired electric generating units in Maryland be approved. These regulations also establish monitoring and reporting requirements, and authorize the MDE to reduce or waive penalties for non-compliance under certain conditions and provide for judicial review of decisions by the MDE to grant a reduction or waiver of penalties. This action is being taken under the Clean Air Act (CAA).

DATES: Written comments must be received on or before February 11, 2008.

ADDRESSES: Submit your comments, identified by Docket ID Number EPA-R03-OAR-2007-1001, by one of the following methods:

A. www.regulations.gov. Follow the on-line instructions for submitting comments.

B. E-mail: fernandez.cristina@epa.gov.

C. Mail: EPA-R03-OAR-2007-1001, Cristina Fernandez, Branch Chief, Air Quality Planning Branch, Mailcode 3AP21, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2007-1001. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or e-mail. The www.regulations.gov Website is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at Maryland Department of the Environment, 1800 Washington Boulevard, Suite 705, Baltimore, Maryland, 21230.

FOR FURTHER INFORMATION CONTACT: Irene Shandruk, (215) 814-2166, or by e-mail at shandruk.irene@epa.gov.

SUPPLEMENTARY INFORMATION: On July 12, 2007, the Maryland Department of the Environment (MDE) submitted a revision to its State Implementation Plan (SIP) for approval of emission limitations and related requirements for nitrogen oxides (NOX) and sulfur dioxide (SO2) at 15 coal-fired electric generating units in Maryland.

I. Background

On April 6, 2006, Maryland signed into law the Healthy Air Act (Ch. 23, Acts of 2006), which requires MDE to adopt certain regulations. One such requirement under the Act is to establish caps on the amount of NOX and SO2 emissions that certain affected facilities can emit. These proposed regulations are more stringent than the Clean Air Interstate Rule (CAIR), which was published by EPA on May 12, 2005 (70 FR 25162).

In the CAIR rule, EPA determined that 28 States and the District of Columbia contribute significantly to nonattainment and interfere with maintenance of the NAAQS for fine particles (PM2.5) and/or 8-hour ozone in downwind States in the eastern part of the country. As a result, EPA required those upwind States to revise their State Implementation Plans (SIPs) to include control measures that reduce emissions of SO2, which is a precursor to PM2.5 formation, and/or NOX, which is a precursor to both ozone and PM2.5 formation. Under CAIR, States may implement these reduction requirements by participating in the EPA-administered cap-and-trade programs or by adopting any other control measures.

Maryland's proposed regulations are more restrictive than the CAIR rules in that they establish specific emission limitations for certain Maryland sources and, unlike the CAIR rules, do not permit surrender of allowances to achieve compliance. While these regulations modify some of the flexibility of CAIR by requiring the installation of on-site pollution controls at the 15 Maryland power plants, they ensure that appropriate local emissions reductions will occur where they are needed in order to attain the NAAQS by 2010.

II. Summary of SIP Revision

The MDE is requesting that regulations (under COMAR 26.11.27) establishing tonnage caps for emissions of NOX and SO2 from 15 coal-fired electric generating units (EGUs) in Maryland be approved. The purpose of these regulations is to help bring Maryland into attainment with the NAAQS for ozone and fine particulate matter by the 2010 attainment deadline. The 15 affected units are as follows:

Electric generating unit | Jurisdiction
Constellation Energy Group System:
Brandon Shores 1 & 2 | Anne Arundel County.
H. A. Wagner 2 & 3 | Anne Arundel County.
C. P. Crane 1 & 2 | Baltimore County.
Mirant System:
Chalk Point 1 & 2 | Prince George's County.
Dickerson 1, 2, & 3 | Montgomery County.
Morgantown 1 & 2 | Charles County.
Allegheny Energy:
R. Paul Smith 3 & 4 | Washington County.

III. Proposed Action

Maryland has met the requirements for submitting a SIP revision for limiting NOX and SO2 emissions from certain Maryland power plants. EPA is proposing to approve the Maryland SIP revision for limiting NOX and SO2 emissions at 15 coal-fired EGUs, which was submitted on July 12, 2007. EPA is soliciting public comments on the issues discussed in this document. These comments will be considered before taking final action.

IV. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355 (May 22, 2001)). This action merely proposes to approve state law as meeting Federal requirements and imposes no additional requirements beyond those imposed by state law. Accordingly, the Administrator certifies that this proposed rule will not have a significant economic impact on a substantial number of small entities under the Regulatory Flexibility Act (5 U.S.C. 601, et seq.). Because this rule proposes to approve pre-existing requirements under state law and does not impose any additional enforceable duty beyond that required by state law, it does not contain any unfunded mandate or significantly or uniquely affect small governments, as described in the Unfunded Mandates Reform Act of 1995 (Pub. L. 104-4). This proposed rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a Federal requirement, and does not alter the relationship or the distribution of power and responsibilities established in the CAA. This proposed rule also is not subject to Executive Order 13045 (62 FR 19885, April 23, 1997), because it approves a state rule implementing a Federal standard.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This action proposing approval of Maryland's SIP revision concerning emission limitations for NOX and SO2 at 15 coal-fired EGUs does not impose an information collection burden under the provisions of the Paperwork Reduction Act of 1995 (44 U.S.C. 3501, et seq.).

List of Subjects in 40 CFR Part 52

Environmental protection, Air pollution control, Nitrogen dioxide, Reporting and recordkeeping requirements, Sulfur oxides.

Authority: 42 U.S.C. 7401, et seq.

Dated: December 27, 2007.
William T. Wisniewski,
Acting Regional Administrator, Region III.

[FR Doc. E8-276 Filed 1-9-08; 8:45 am]

BILLING CODE 6560-50-P